INTERNATIONAL TRADE COMMISSION

[Investigation No. 337-TA-674]

In the Matter of Certain Light Emitting Diode Chips, Laser Diode Chips and Products Containing Same; Notice of a Commission Determination Not To Review an Initial Determination Terminating the Investigation as to Dalian Lumei Optoelectronics Corporation; Termination of the Investigation in Its Entirety

AGENCY: U.S. International Trade Commission.

ACTION: Notice.

SUMMARY: Notice is hereby given that the U.S. International Trade Commission has determined not to review an initial determination (“ID”) (Order No. 29) of the presiding administrative law judge (“ALJ”) terminating the above-captioned investigation as to the last remaining respondent Dalian Lumei Optoelectronics Corporation (“Dalian Lumei”) based on a settlement agreement, and has terminated the investigation in its entirety.

FOR FURTHER INFORMATION CONTACT: Michael Liberman, Esq., Office of the General Counsel, U.S. International Trade Commission, 500 E Street, SW., Washington, DC 20436, telephone (202) 205-3115. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on April 6, 2009, based on a complaint filed on March 2, 2009, by Gertrude Neumark Rothschild of Hartsdale, New York. 74 FR 15520-21 (April 6, 2009). The complaint alleges violations of section 337 of the Tariff Act of 1930, as amended, 19 U.S.C. 1337, in the importation into the United States, the sale for importation, and the sale within the United States after importation of certain light emitting diode chips, laser diode chips, and products containing same by reason of infringement of certain claims of U.S. Patent No. 5,252,499. The complaint further alleges that an industry in the United States exists as required by subsection (a)(2) of section 337. The complaint names numerous respondents.

On October 30, 2009, complainant Rothschild and respondent Dalian Lumei jointly moved to terminate the investigation as to Dalian Lumei based on a settlement agreement. In the same motion, complainant moved for the termination of the investigation in its entirety. The Commission investigative attorney supported the motion.

On November 13, 2009, the ALJ issued an ID (Order No. 29) granting the motion. No party petitioned for review of the ID, and the Commission has determined not to review it.

The authority for the Commission's determination is contained in section 337 of the Tariff Act of 1930, as amended, 19 U.S.C. 1337, and in sections 210.21 and 210.42(h) of the Commission's Rules of Practice and Procedure, 19 CFR 210.21, 210.42(h).

By order of the Commission.
Issued: December 9, 2009.
Marilyn R. Abbott,
Secretary to the Commission.

[FR Doc. E9-29703 Filed 12-16-09; 8:45 am]

BILLING CODE 7020-02-P